DEPARTMENT OF COMMERCE

Patent and Trademark Office

Agency Information Collection Activities; Submission to the Office of Management and Budget (OMB) for Review and Approval; Comment Request; Patent and PTAB Pro Bono Programs

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on August 30, 2022 during a 60-day comment period. This notice allows for an additional 30 days for public comments.

Agency: United States Patent and Trademark Office, Department of Commerce.

Title: Patent and PTAB Pro Bono Programs.

OMB Control Number: 0651-0082.

Needs and Uses: The Leahy-Smith America Invents Act (AIA), Public Law 112-29 § 32 (2011) directs the USPTO to work with and support intellectual property law associations across the country in the establishment of pro bono programs designed to assist financially under-resourced independent inventors and small businesses. To support this, the USPTO—in collaboration with various non-profit organizations—implemented the Patent Pro Bono program; a series of autonomous regional programs that act as matchmakers to help connect low-income inventors with volunteer patent attorneys across the United States. The Patent Pro Bono program comprises a network of regional programs organized by various bar associations, law school IP clinics, and lawyer referral services that provide services across all fifty states, the District of Columbia, and Puerto Rico.

In 2022, the Patent Trial and Appeal Board (PTAB) began coordinating pro bono opportunities through the newly created PTAB Pro Bono Program, having supported the establishment of a national clearinghouse that acts as a matchmaker to connect under-resourced inventors with volunteer patent practitioners across the United States for assistance in preparing and arguing ex parte appeals before the PTAB. The PTAB Bar Association's national clearinghouse provides access to legal representation for pro bono ex parte appeal services across all fifty states and the District of Columbia.

Each pro bono program will be requesting that their respective regional programs and a national clearinghouse collect demographic information from those seeking assistance that will be self-identified by the applicant. The requested standardized demographic information, collected through Applicant Intake Forms, will be a voluntary part of the overall application materials that each independent inventor fills out when seeking pro bono assistance. The information collected will be kept confidential by the regional programs and the national clearinghouse and only aggregate information is shared with the USPTO. This aggregate information, will also be used to help determine the extent to which women, minorities, and veterans engage the Pro Bono Programs supported by USPTO.

This renewal of 0651-0082 broadens the scope of the information collection to include the PTAB Pro Bono Program, in addition to the Patent Pro Bono Program that was covered under this collection. The name of the information collection has been adjusted from “Pro Bono Survey” to “Patent and PTAB Pro Bono Programs” in order to include related programs under this single information collection. This information collection includes an instrument capturing data for the Patent Pro Bono program (Patent Pro Bono Survey) and its applicant participations (Patent Applicant Intake Form). The information collection also has a similar instrument that covers the collection of data for the PTAB program (PTAB Pro Bono Survey) and the applicants requesting to participate in that PTAB offering (PTAB Applicant Intake Form).

Form Number(s):

• USPTO/550 (Patent Pro Bono Survey)

• USPTO/551 (Patent Applicant Intake Form)

• USPTO/552 (PTAB Pro Bono Survey)

• USPTO/553 (PTAB Applicant Intake Form)

Type of Review: Extension and revision of a currently approved information collection.

Affected Public: Private sector; individuals or households.

Respondent's Obligation: Required to obtain or retain benefits.

Frequency: On occasion.

Estimated Number of Annual Respondents: 1,763 respondents.

Estimated Number of Annual Responses: 1,832 responses.

Estimated Time per Response: The USPTO estimates that the responses in this information collection will take the public between approximately 5 minutes (0.08 hours) and 2 hours to complete. This includes the time to gather the necessary information, fill out the item, and submit the completed request to the USPTO.

Estimated Total Annual Respondent Burden Hours: 332 hours.

Estimated Total Annual Respondent Non-Hourly Cost Burden: $1,333.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0082.

Further information can be obtained by:

• Email: InformationCollection@uspto.gov. Include “0651-0082 information request” in the subject line of the message.

• Postal mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2023-01749 Filed 1-27-23; 8:45 am]

BILLING CODE 3510-16-P